NUCLEAR REGULATORY COMMISSION

Agency Information Collection Activities: Proposed Collection; Comment Request

AGENCY: Nuclear Regulatory Commission (NRC).

ACTION: Notice of pending NRC action to submit an information collection request to OMB and solicitation of public comment.

SUMMARY: The NRC is preparing a submittal to OMB for review for new collections approval of information collections under the provisions of the Paperwork Reduction Act of 1995 (44 U.S.C. Chapter 35).

Information pertaining to the requirement to be submitted:

1. The title of the information collection: Request for Non-Agreement States Information, as authorized by Section 274(a) of the Atomic Energy Act.

2. Current OMB approval number: New collection.

3. How often the collection is required: One-time or as-needed.

4. Who is required or asked to report: The 18 States that have not signed Section 274(b) Agreements with NRC (Non-Agreement States).

5. The number of annual respondents: 18 Non-Agreement States.

6. The number of hours needed annually to complete the requirement or request: 135 hours (18 responses per year × 7.5 hours per response).

7. Abstract: Occasionally, requests will be made of the Non-Agreement States for information similar to that requested from the Agreement States. Requests will be made on a one-time or as-needed basis, e.g., to respond to a specific incident, to gather information on licensing and inspection practices and other technical statistical information. These information requests will primarily refer to naturally occurring and accelerator-produced radioactive materials which may be subject to State regulations since they do not come under the purview of the Atomic Energy Act, as amended. The reason for requesting such information is that the information can assist the Commission in its considerations and decisions involving Atomic Energy Act materials programs in an effort to make the national nuclear materials programs more uniform and consistent.

Submit, by January 6, 2003, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Brenda Jo. Shelton, U.S. Nuclear Regulatory Commission, T-6 E6, Washington, DC 20555-0001, by telephone at 301-415-7233, or by Internet electronic mail to INFOCOLLECTS@NRC.GOV.

Dated at Rockville, Maryland, this 1st day of November 2002.
For the Nuclear Regulatory Commission.
Brenda Jo. Shelton,
NRC Clearance Officer, Office of the Chief Information Officer.

[FR Doc. 02-28362 Filed 11-6-02; 8:45 am]

BILLING CODE 7590-01-P